DEPARTMENT OF HEALTH AND HUMAN SERVICES

National Institutes of Health

National Institute on Aging; Notice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute on Aging Special Emphasis Panel Immune System and Aging II.

Date: February 10, 2005.

Time: 12 p.m. to 3 p.m.

Agenda: To review and evaluate grant applications.

Place: National Institutes of Health, Gateway Building, 7201 Wisconsin Avenue, 2C212 Bethesda, MD 20892, (Telephone Conference Call).

Contact Person: Bita Nakhai, PhD., Scientific Review Administrator, Scientific Review Office, National Institute on Aging, Gateway Bldg., 2C212, 7201 Wisconsin Avenue, Bethesda, MD 20892, (301) 402-7701. nakhaib@nia.nih.gov.

Name of Committee: National Institute on Aging Special Emphasis Panel, Aging and the Musculoskeletal System.

Date: February 10, 2005.

Time: 12 p.m. to 5 p.m.

Agenda: To review and evaluate grant applications.

Place: National Institutes of Health, Gateway Building/2C212, 7201 Wisconsin Ave, Bethesda, MD 20892, (Telephone Conference Call).

Contact Person: Alessandra M. Bini, PhD., Health Scientist Administrator, Scientific Review Office, National Institute on Aging, National Institutes of Health, 7201 Wisconsin Avenue, Bethesda, MD 20892, (301) 402-7708. binia@nia.nih.gov.

Name of Committee: National Institute on Aging Special Emphasis Panel, Vitamin E and Downs Syndrome.

Date: February 14, 2005.

Time: 11 a.m. to 12:30 p.m.

Agenda: To review and evaluate grant applications.

Place: National Institutes of Health, Gateway Building/Room 2C212, 7201 Wisconsin Ave, Bethesda, MD 20892, (Telephone Conference Call).

Contact Person: Ramesh Vemuri, PhD., Health Scientist Administrator, Scientific Review Office, National Institute on Aging, National Institutes of Health, Room 2C212, 7201 Wisconsin Avenue, Bethesda, MD 20892, (301) 402-7700. rv23r@nih.gov.

Name of Committee: National Institute on Aging Special Emphasis Panel, Alzheimer's Disease Clinical Trials.

Date: February 14, 2005.

Time: 12:30 p.m. to 3 p.m.

Agenda: To review and evaluate grant applications.

Place: National Institutes of Health, Gateway Building/Room 2C212, 7201 Wisconsin Ave, Bethesda, MD 20892, (Telephone Conference Call).

Contact Person: Ramesh Vemuri, PhD., Health Scientist Administrator, Scientific Review Office, National Institute on Aging, National Institutes of Health, Room 2C212, 7201 Wisconsin Avenue, Bethesda, MD 20892, (301) 402-7700. rv23r@nih.gov.

(Catalogue of Federal Domestic Assistance Program Nos. 93.866, Aging Research, National Institutes of Health, HHS)

Dated: January 13, 2005.
LaVerne Y. Stringfield
Director, Office of Federal Advisory Committee Policy.

[FR Doc. 05-1277 Filed 1-24-05; 8:45 am]

BILLING CODE 4140-01-M